DEPARTMENT OF HEALTH AND HUMAN SERVICES

Food and Drug Administration

[Docket No. 01N-0384]

Preparation for Global Harmonization Task Force Conference in Barcelona, Spain, Including a Discussion of Guidance Proposed for Comment and Currently Under Development and Possibilities for New Topics; Public Meeting; Cancellation

AGENCY: Food and Drug Administration, HHS.

ACTION: Notice.

SUMMARY: The Food and Drug Administration (FDA) is canceling the public meeting for the Global Harmonization Task Force Conference in Barcelona, Spain scheduled for October 1, 2001. The meeting was announced in the Federal Register of September 13, 2001 (66 FR 47676). It will be rescheduled at a later date.

FOR FURTHER INFORMATION CONTACT: Kimberly Topper, Center for Drug Evaluation and Research (HFD-21), Food and Drug Administration, 5600 Fishers Lane, Rockville, MD 20857, 301-827-7001.

Dated: September 25, 2001.
Margaret M. Dotzel,
Associate Commissioner for Policy.

[FR Doc. 01-24527 Filed 9-26-01; 3:57 pm]

BILLING CODE 4160-01-S